NUCLEAR REGULATORY COMMISSION

Request to Amend a License for the Export of Radioactive Waste

Pursuant to 10 CFR 110.70(b)(4) “Public notice of receipt of an application,” please take notice that the Nuclear Regulatory Commission has received the following request for an export license. Copies of the request can be accessed through the Public Electronic Reading Room (PERR) link http://www.nrc.gov/reading-rm/adams.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

In its review of the application for a license to export radioactive waste as defined in 10 CFR part 110 and noticed herein, the Commission does not evaluate the health, safety or environmental effects in the recipient nation of the material to be exported. The information concerning the application follows.

NRC Application To Amend License for the Export of Radioactive Waste
Name of applicant and date of application* | Description of material: Material type | Description of material: Total quantity (qty) | Description of material: End use | Description of material: Country of destination
Westinghouse Electric Company LLC | Class A Radioactive Waste—(contaminated scrap metals) | Increase the total qty of scrap metal from 149,320.0 kgs to 562,320.0 kgs and increase the total qty of low enriched uranium contaminanats to 9.0 kgs U-235 contained in 215 kgs uranium | For decontamination and recovery for commercial use | Canada
February 3, 2005 |  |  | Extend expiration date from 12/31/10 to 12/31/15 |
February 7, 2005 XW003/03 11005171 |  |  |  |
* Date received, application number and docket number

For the Nuclear Regulatory Commission.
Dated this 26th day of April 2005 at Rockville, Maryland.
Margaret M. Doane,
Deputy Director, Office of International Programs.

[FR Doc. E5-2106 Filed 5-2-05; 8:45 am]

BILLING CODE 7590-01-P